INTERNATIONAL TRADE COMMISSION

[Inv. No. 337-TA-596]

In the Matter of Certain GPS Chips, Associated Software and Systems, and Products Containing Same; Notice of Commission Determination Not To Review ALJ Order No. 19 Granting Complainant's Motion for Leave to Amend the Complaint and Notice of Investigation

AGENCY: U.S. International Trade Commission.

ACTION: Notice.

SUMMARY: Notice is hereby given that the U.S. International Trade Commission has determined not to review an initial determination (“ID”) (Order No. 19) of the presiding administrative law judge (“ALJ”) granting complainant's motion for leave to amend the complaint and notice of investigation.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On March 13, 2007, the Commission instituted an investigation under section 337 of the Tariff Act of 1930, 19 U.S.C. 1337, based on a complaint filed by SiRF Technology, Inc. of San Jose, California (“SiRF”), alleging a violation of section 337 in the importation, sale for importation, and sale within the United States after importation of certain GPS chips, associated software and systems, and products containing same by reason of infringement of certain claims of U.S. Patent Nos. 6,304,216; 7,043,363; 7,091,904 (“the '904 patent”); and 7,132,980. 72 FR 11378 (Mar. 13, 2007). The complainant named Global Locate, Inc. of San Jose, California (“Global Locate”) as respondent.

On July 11, 2007, complainant SiRF moved to add dependent claim 2 of the '904 patent to the list of claims of the '904 patent in paragraph 6.8 of the complaint, and to amend the notice of investigation dated March 8, 2007, to include claim 2 in the list of claims of the '904 patent. The Commission investigative attorney stated on July 17, 2007, that he did not oppose complainant's motion. On July 19, 2007, respondent Global Locate opposed complainant's motion.

On July 24, 2007, the ALJ issued Order No. 19 granting complainant's motion. No party petitioned for review of Order No. 19. The Commission has determined not to review the ID.

The authority for the Commission's determination is contained in section 337 of the Tariff Act of 1930, as amended (19 U.S.C. 1337), and in § 210.42(h) of the Commission's Rules of Practice and Procedure (19 CFR 210.42(h)).

By order of the Commission.
Issued: August 15, 2007.
William R. Bishop,
Acting Secretary to the Commission.

[FR Doc. E7-16362 Filed 8-20-07; 8:45 am]

BILLING CODE 7020-02-P